DEPARTMENT OF THE INTERIOR

Bureau of Land Management

[NM-952-06-1420-BJ]

Notice of Filing of Plats of Survey; New Mexico

AGENCY: Bureau of Land Management, Interior.

ACTION: Notice.

SUMMARY: The plats of survey described below are scheduled to be officially filed in the New Mexico State Office, Bureau of Land Management, Santa Fe, New Mexico (30) thirty calendar days from the date of this publication.

SUPPLEMENTARY INFORMATION:

New Mexico Principal Meridian, New Mexico:

The plat representing the dependent resurvey and survey and subdivision of sections in township 24 North, Ranges 9 East, accepted March 30, 2006, for Group 1032 New Mexico.

The supplemental plat, representing the subdivision of sections for Township 20 North, Range 9 & 10 East, accepted March 30, 2006, for New Mexico.

The plat representing the dependent resurvey and subdivision of sections for Township 22 South, Range 2 East, accepted March 29, 2006 for Group 937 New Mexico.

The plat representing the dependent resurvey and survey for Township 16 North, Range 17 East, accepted January 12, 2006 for Group 1030 New Mexico.

The plat representing the dependent resurvey and subdivision of sections for Township 15 North, Range 1 East, accepted December 29, 2005 for Group 1031 New Mexico.

The plat representing the dependent resurvey and subdivision of sections for Township 26 North, Range 6 East, accepted December 12, 2005 for Group 943 New Mexico.

The plat, in two sheets, representing the dependent resurvey and survey for Township 13 North, Range 12 West, accepted May 9, 2006, for Group 1013 New Mexico.

Indian Meridian, Oklahoma:

The plat representing the dependent resurvey and survey for Township 8 North, Range 7 East, accepted February 6, 2006, for Group 108 Oklahoma.

The plat representing the dependent resurvey and survey for Township 9 south, Range 1 East, accepted March 10, 2006 for Group 132 Oklahoma.

The plat representing the dependent resurvey and survey for Township 8 North, Range 14 East, accepted April 5, 2006 for Group 119 Oklahoma.

The plat representing the dependent resurvey and survey for Township 22 North, Range 4 East, accepted April 12, 2006 for Group 137 Oklahoma.

If a protest against a survey, as shown on any of the above plats is received prior to the date of official filing, the filing will be stayed pending consideration of the protest. A plat will not be officially filed until the day after all protests have been dismissed.

A person or party who wishes to protest against any of these surveys must file a written protest with the New Mexico State Director, Bureau of Land Management, stating that they wish to protest.

A statement of reasons for a protest may be filed with the notice of protest to the State Director, or the statement of reasons must be filed with the State Director within thirty days after the protest is filed.

FOR FURTHER INFORMATION CONTACT: These plats will be available for inspection in the New Mexico State Office, Bureau of Land Management, and P.O. Box 27115, Santa Fe, New Mexico, 87502-0115. Copies may be obtained from this office upon payment of $1.10 per sheet.

Dated: May 23, 2006.
Robert A. Casias,
Chief Cadastral Surveyor, New Mexico.

[FR Doc. 06-5080 Filed 6-2-06; 8:45 am]

BILLING CODE 4310-FB-M